DEPARTMENT OF COMMERCE

International Trade Administration

[A-523-808]

Certain Steel Nails From the Sultanate of Oman: Affirmative Preliminary Determination of Sales at Less Than Fair Value and Postponement of Final Determination

AGENCY: Enforcement and Compliance, International Trade Administration, Department of Commerce.

SUMMARY: The Department of Commerce (“Department”) preliminarily determines that certain steel nails (“nails”) from the Sultanate of Oman (“Oman”) are being, or are likely to be, sold in the United States at less than fair value (“LTFV”), as provided in section 733(b) of the Tariff Act of 1930, as amended (the “Act”). The period of investigation is April 1, 2013 through March 31, 2014. The estimated weighted-average dumping margins are shown in the “Preliminary Determination” section of this notice. Interested parties are invited to comment on this preliminary determination.

DATES: Effective Date: December 29, 2014.

FOR FURTHER INFORMATION CONTACT: Lilit Astvatsatrian, AD/CVD Operations, Office IV, Enforcement and Compliance, International Trade Administration, U.S. Department of Commerce, 14th Street and Constitution Avenue NW., Washington, DC 20230; telephone: (202) 482-6412.

SUPPLEMENTARY INFORMATION:

Background

The Department published the notice of initiation of this investigation on June 25, 2014.¹ Pursuant to section 773(c)(1)(A) of the Act, the Department postponed this preliminary LTFV determination by a period of 42 days.²

¹ See Certain Steel Nails From India, the Republic of Korea, Malaysia, the Sultanate of Oman, Taiwan, the Republic of Turkey, and the Socialist Republic of Vietnam: Initiation of Less-Than-Fair-Value Investigations, 79 FR 36019 (June 25, 2014) (“Initiation Notice”).

² See Certain Steel Nails from Republic of Korea, Malaysia, Taiwan, the Sultanate of Oman, Taiwan, and the Socialist Republic of Vietnam: Postponement of Preliminary Determination of Antidumping Duty Investigations, 79 FR 63082 (October 22, 2014).

Scope of the Investigation

The product covered by this investigation is certain steel nails from Oman. For a full description of the scope of the investigation, see Appendix I to this notice.

Scope Comments

Several interested parties (i.e., IKEA Supply AG and IKEA Distributions Services Inc. (collectively IKEA), Target Corporation, and The Home Depot) submitted comments to the Department on the scope of the investigation as it appeared in the Initiation Notice, and Mid Continent Steel & Wire, Inc. (Petitioner) submitted rebuttal comments. For discussion of those comments and rebuttal comments, see the Preliminary Decision Memorandum.³

³ See December 17, 2014 memorandum to Ronal K. Lorentzen, “Decision Memorandum for the Preliminary Determination in the Antidumping Duty Investigation of Certain Steel Nails from the Sultanate of Oman,” adopted concurrently with this notice. A list of the topics discussed in the Preliminary Decision Memorandum appears in Appendix II, below.

Methodology

The Department has conducted this investigation in accordance with section 731 of the Act. Export price (“EP”) has been calculated in accordance with section 772 of the Act. Normal value (“NV”) has been calculated in accordance with section 773 of the Act. For a full description of the methodology underlying our conclusions, see the Preliminary Decision Memorandum. The Preliminary Decision Memorandum is a public document and is made available to the public via Enforcement and Compliance's Antidumping and Countervailing Duty Centralized Electronic Service System (“ACCESS”).⁴ ACCESS is available to registered users at https://access.trade.gov, and is available to all parties in the Department's Central Records Unit, located at room 7046 of the main Department of Commerce building. In addition, a complete version of the Preliminary Decision Memorandum can be found at http://enforcement.trade.gov/frn/. The signed and the electronic versions of the Preliminary Decision Memorandum are identical in content.

⁴ On November 24, 2014, Enforcement and Compliance changed the name of the Import Administration AD and CVD Centralized Electronic Service System (“IA ACCESS”) to AD and CVD Centralized Electronic Service System (“ACCESS”). The Web site location was changed from http://iaaccess.trade.gov to http://access.trade.gov. The Final Rule changing the references to the Regulations can be found at: 79 FR 69046 (November 20, 2014).

All Others Rate

Section 735(c)(5)(A) of the Act provides that the estimated “all others” rate shall be an amount equal to the weighted average of the estimated weighted-average dumping margins established for exporters and producers individually investigated, excluding any zero or de minimis margins, and any margins determined entirely under section 776 of the Act. We based our calculation of the “all others” rate on the margin calculated for Oman Fasteners, LLC (“Oman Fasteners”), the only mandatory respondent in this investigation.

Preliminary Determination

The Department preliminarily determines that the following weighted-average dumping margins exist:

Producer or exporter | Weighted- average dumping margin (percent)
Oman Fasteners, LLC | 9.07
All Others | 9.07

Disclosure and Public Comment

We intend to disclose the calculations performed to parties in this proceeding within five days of the date of publication of this notice in accordance with 19 CFR 351.224(b).

Case briefs or other written comments may be submitted to the Assistant Secretary for Enforcement and Compliance no later than seven days after the date on which the final verification report is issued in this proceeding. Rebuttal briefs, limited to issues raised in case briefs, may be submitted no later than five days after the deadline date for case briefs.⁵ Pursuant to 19 CFR 351.309(c)(2) and (d)(2), parties who submit case briefs or rebuttal briefs in this proceeding are encouraged to submit with each argument: (1) A statement of the issue; (2) a brief summary of the argument; and (3) a table of authorities.

⁵ See 19 CFR 351.309.

Pursuant to 19 CFR 351.310(c), interested parties who wish to request a hearing, or to participate if one is requested, must submit a written request to the Assistant Secretary for Enforcement and Compliance, U.S. Department of Commerce. All documents must be filed electronically using ACCESS. An electronically filed request must be received successfully in its entirety by ACCESS, by 5:00 p.m. Eastern Standard Time, within 30 days after the date of publication of this notice.⁶ Requests should contain the party's name, address, and telephone number, the number of participants, and a list of the issues to be discussed. If a request for a hearing is made, the Department intends to hold the hearing at the U.S. Department of Commerce, 14th Street and Constitution Avenue NW., Washington, DC 20230, at a time and date to be determined. Parties should confirm by telephone the date, time, and location of the hearing two days before the scheduled date.

⁶ See 19 CFR 351.310(c).

Postponement of Final Determination and Extension of Provisional Measures

Pursuant to section 735(a)(2) of the Act, Oman Fasteners requested that the Department postpone the final determination and extend provisional measures from four months to six months. Additionally, Oman Fasteners requested to extend the application of the provisional measures prescribed under section 733(d) of the Act and 19 CFR 351.210(e)(2), from a four-month period to a six-month period. Pursuant to a request from Oman Fasteners and in accordance with section 735(a)(2)(A) of the Act and 19 CFR 351.210(b)(2)(ii) and (e)(2), we will make our final determination no later than 135 days after the date of publication of this preliminary determination.⁷ The suspension of liquidation described above will be extended accordingly.⁸

⁷ See also 19 CFR 351.210(b)(2) and (e); see also Letter from Oman Fasteners to the Department, regarding “Request to Postpone Final Determination” (December 11, 2014); see also Letter from Petitioner to the Department, regarding “Extension Request of Final Determination” (December 10, 2014).

⁸ Id.

Suspension of Liquidation

In accordance with section 733(d)(2) of the Act, we are directing U.S. Customs and Border Protection (“CBP”) to suspend liquidation of all entries of nails from Oman as described in the scope of the investigation section entered, or withdrawn from warehouse, for consumption on or after the date of publication of this notice in the Federal Register.

Pursuant to 19 CFR 351.205(d), we will instruct CBP to require a cash deposit equal to the weighted-average amount by which the NV exceeds EP, as indicated in the chart above.⁹ These suspension of liquidation instructions will remain in effect until further notice.

⁹ See Modification of Regulations Regarding the Practice of Accepting Bonds During the Provisional Measures Period in Antidumping and Countervailing Duty Investigations, 76 FR 61042 (October 3, 2011).

International Trade Commission (“ITC”) Notification

In accordance with section 733(f) of the Act, we have notified the ITC of our preliminary affirmative determination of sales at LTFV. Because the preliminary determination in this proceeding is affirmative, section 735(b)(2) of the Act requires that the ITC make its final determination as to whether the domestic industry in the United States is materially injured, or threatened with material injury, by reason of imports of certain steel nails from Oman before the later of 120 days after the date of this preliminary determination or 45 days after our final determination. Because we are postponing the deadline for our final determination to 135 days from the date of publication of this preliminary determination, as discussed above, the ITC will make its final determination no later than 45 days after our final determination.

This determination is issued and published in accordance with sections 733(f) and 777(i)(1) of the Act and 19 CFR 351.205(c).

Dated: December 17, 2014.
Ronald K. Lorentzen,
Acting Assistant Secretary for Enforcement and Compliance.

Appendix

List of Topics Discussed in the Preliminary Decision Memorandum

I. Summary

II. Background

III. Period of Investigation

IV. Postponement of Preliminary Determination

V. Postponement of Final Determination and Extension of Provisional Measures

VI. Scope of the Investigation

VII. Scope Comments

VIII. Respondent Selection

IX. Discussion of Methodology

A. Fair Value Comparisons

1. Determination of Comparison Method

2. Results of the Differential Pricing Analysis

X. Product Comparisons

XI. Date of Sale

XII. Affiliation

XIII. Export Price

XIV. Normal Value

A. Comparison-Market Viability

B. Calculation of Normal Value Based on CV

XV. Currency Conversion

XVI. U.S, International Trade Commission Notification

XVII. Disclosure and Public Comment

XVIII. Verification

XIX. Conclusion

[FR Doc. 2014-30433 Filed 12-24-14; 8:45 am]

BILLING CODE 3510-DS-P